DEPARTMENT OF ENERGY

Federal Energy Regulatory Commission

Notice of Application Accepted for Filing, Soliciting Motions to Intervene and Protests, Ready for Environmental Analysis, and Soliciting Comments, and Terms and Conditions, Recommendations, and Prescriptions

November 20, 2001.

Take notice that the following hydroelectric application has been filed with the Commission and is available for public inspection.

a. Type of Application: small hydroelectric exemption.

b. Project No.: 12094-000.

c. Date filed: July 24, 2001.

d. Applicant: Hydro Technology Systems, Inc.

e. Name of Project: 1910 Meyers Falls Hydroelectric Plant.

f. Location: On the Colville River, near the City of Kettle Falls, in Stevens County, Washington. The proposed exemption would not occupy any federal lands.

g. Filed Pursuant to: Public Utility Regulatory Policies Act of 1978, 16 U.S.C. §§ 2705, 2708.

h. Applicant Contact: Michael E. Johnson, Hydro Technology Systems, Inc., P.O. Box 683 Kettle Falls, WA 99141; (509) 738-6544.

i. FERC Contact: John B. Smith, (202) 219-2460, john.smith@ferc.fed.us.

j. Deadline for filing motions to intervene and protests, comments, and terms and conditions, recommendations, and prescriptions: 60 days from the issuance date of this notice.

All documents (original and eight copies) should be filed with: David P. Boergers, Secretary, Federal Energy Regulatory Commission, 888 First Street, NE, Washington, DC 20426. Comments, protests and interventions may be filed electronically via the Internet in lieu of paper. See, 18 CFR 385.2001(a)(1)(iii) and the instructions on the Commission's web site under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, terms and conditions, recommendations, and prescriptions may be filed electronically via the Internet in lieu of paper. See 18 CFR 385.2001(a)(1)(iii) and the instructions on the Commission's web site (http://www.ferc.gov) under the “e-Filing” link.

k. This application has been accepted for filing, and is now ready for environmental analysis.

We will consider the prefiling consultation process that has occurred as satisfying National Environmental Policy Act scoping and intend on issuing one environmental assessment (EA) rather than issuing a draft and final EA. Tentatively, we plan on issuing an EA by March 2002.

l. The proposed project would consist of: (1) The existing concrete intake structure, restored and equipped with a new trash screen and headgate, located on the south bank of the Colville River between 2 waterfalls; (2) a new 230-foot-long, 42-inch-diameter welded-steel penstock; (3) the existing 60-foot-long by 30-foot-wide concrete powerhouse restored and equipped with a new, horizontal Francis turbine coupled to a generator with an output rating of 300 kilowatts at a design turbine flow of 50 cubic feet per second; (4) a 1,500-foot-long, 11-kilovolt, underground transmission line; and (5) other appurtenances.

m. A copy of the application is on file with the Commission and is available for public inspection. This filing may also be viewed on the web at http://www.ferc.gov using the “RIMS” link—select “Docket #” and follow the instructions (call 202-208-2222 for assistance). A copy is also available for inspection and reproduction at the address in item h above.

n. Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

Anyone may submit comments, a protest or a motion to intervene in accordance with the requirements of Rules of Practice and Procedure, 18 CFR 385.210, 385.211, and 385.214. In determining the appropriate action to take, the Commission will consider all protests filed, but only those who file a motion to intervene in accordance with the Commission's Rules may become a party to the proceeding. Any comments, protests, or motions to intervene must be received on or before the specified deadline date for the particular application.

The Commission directs, pursuant to section 4.34 (b) of the Regulations (see Order No. 533 issued May 8, 1991, 56 FR 23108, May 20 1991) that all comments, recommendations, terms and conditions, and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) Bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Linwood A. Watson, Jr.,
Acting Secretary.

[FR Doc. 01-29412 Filed 11-26-01; 8:45 am]

BILLING CODE 6717-01-P